DEPARTMENT OF COMMERCE

National Oceanic and Atmospheric Administration

Meeting of the Chairs of the National Marine Sanctuary Program's Sanctuary Advisory Councils

AGENCY: National Marine Sanctuary Program (NMSP), National Ocean Service (NOS), National Oceanic and Atmospheric Administration, Department of Commerce (DOC).

ACTION: Notice.

SUMMARY: The National Marine Sanctuary Program (NMSP) is holding a meeting of the Chairs of its eleven site-specific Sanctuary Advisory Councils (Councils). The purpose of the meeting is to hold discussion and obtain input from the Chairs on the following: NMSP policy topics discussed during 2003 meeting, reauthorization of the National Marine Sanctuaries Act, and activities of cruise ships in sanctuaries. The meeting will be open to the public. Opportunities for public comment will be provided at 8:45 a.m. and 3 p.m. on a first-come, first-served basis. Members of the public wishing to provide comments will be asked to sign up upon arrival and will likely be limited in how much time they will be allotted for comments (depending upon how many people have signed up). A maximum of twenty minutes will be allotted at 8:45 a.m. and again at 3 p.m. for public comments.

DATES: The meeting will be held on Thursday, February 26, 2004, from 8:30 a.m. to 3:20 p.m. Opportunities for public comment will be provided at 8:45 a.m. and 3 p.m.

ADDRESSES: The meeting will be held at The Marshall House, 123 East Broughton Street, Savannah, Georgia.

FOR FURTHER INFORMATION CONTACT: Karen Brubeck at (206) 842-6084 or Elizabeth Moore at (301) 713-3125 ext. 170.

SUPPLEMENTARY INFORMATION: The National Marine Sanctuaries Act (NMSA) authorizes the Secretary of Commerce to establish one or more Advisory Councils to provide advice to the Secretary regarding the designation and management of National Marine Sanctuaries. Eleven Councils exist, for the Channel Islands, Cordell Bank, Florida Keys, Gray's Reef, Gulf of the Farallones, Hawaiian Islands Humpback Whale, Monterey Bay, Olympic Coast, Stellwagen Bank, and Thunder Bay Sanctuaries and the Northwestern Hawaiian Islands Coral Reef Ecosystem Reserve and proposed Sanctuary. Councils represent a wide variety of community interests and are active in various projects and issues affecting the management of their local Sanctuaries; Councils generally meet on a monthly or bimonthly basis. Each year, the NMSP hosts a meeting for all the Council Chairs and Coordinators to discuss project and topics of mutual interest (2004's meeting will be the fourth such meeting). This year, for the second time, the Chairs are being asked to provide advice to the national program leadership on policy topics important on a programmatic rather than a site-specific level. The purpose of the meeting is to hold discussion and obtain input from the Chairs on the following: NMSP policy topics discussed during 2003 meeting, reauthorization of the National Marine Sanctuaries Act, and activities of cruise ships in sanctuaries. The meeting will be open to the public. Opportunities for public comment will be provided at 8:45 a.m. and 3 p.m. on a first-come, first-served basis. The Chairs will provide this advice only during the meeting announced by this notice, and will not become a permanent national advisory body.

Authority: 16 U.S.C. 1431 et seq.

Dated: January 7, 2004.
(Federal Domestic Assistance Catalog Number 11.429 Marine Sanctuary Program)
Jamison S. Hawkins,
Deputy Assistant Administrator for Management, Ocean Services and Coastal Zone Management, National Oceanic and Atmospheric Administration.

[FR Doc. 04-725 Filed 1-13-04; 8:45 am]

BILLING CODE 3510-NK-M